DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes a description of how States will manage the Hazard Mitigation Grant Program (HMGP) in the event of a disaster and the procedures States establish to implement required activities.

Title: State Administrative Plan for the Hazard Mitigation Grant Program.

OMB Number: 1660-0026.

Abstract: States must have approved State Administrative Plans to be eligible to receive funds under the HMGP. The plan outlines the procedures for administration of the program and management of program funds. The plan is revised after each major disaster declaration to take into account changes in the administration of the program or in current program policy, and must be submitted for review and approval by the appropriate Regional Director. Independent of the frequency of disaster declarations, each State should review and update the plan at least annually.

Affected Public: State, Local, or Tribal Government, and Federal Government.

Number of Respondents: 56.

Estimated Time per Respondent: 8 hours.

Estimated Total Annual Burden Hours: 383 hours.

Frequency of Response: On Occasion.

Comments: Interested persons are invited to submit written comments on the proposed information collection to the Office of Information and Regulatory Affairs at OMB, Attention: Desk Officer for the Department of Homeland Security/FEMA at e-mail address kflee@omb.eop.gov or facsimile number (202) 395-7285. Comments must be submitted on or before April 2, 2004. In addition, interested persons may also send comments to FEMA (see contact information below).

FOR FURTHER INFORMATION CONTACT: Requests for additional information or copies of the information collection should be made to Muriel B. Anderson, Chief, Records Management Branch, FEMA at 500 C Street, SW., Room 316, Washington, DC 20472, facsimile number (202) 646-3347, or e-mail address InformationCollections@dhs.gov.

Dated: February 26, 2004.
George S. Trotter,
Acting Division Director, Information Resources Management Division, Information Technology Services Directorate.

[FR Doc. 04-4673 Filed 3-2-04; 8:45 am]

BILLING CODE 9110-11-P